FEDERAL MARITIME COMMISSION

[Docket No. 23-08]

Mediterranean Shipping Company, S.A.; Possible Violations of the Shipping Act; Order of Investigation and Hearing

AGENCY: Federal Maritime Commission.

ACTION: Notice of order of investigation and hearing.

DATES: The Order of Investigation and Hearing was issued on August 10, 2023.

SUPPLEMENTARY INFORMATION: On August 10, 2023, the Federal Maritime Commission (the “Commission”) instituted an Order of Investigation and Hearing against Mediterranean Shipping Company, S.A. (the “Respondent”) for possible violations of the Shipping Act, 46 U.S.C. chs. 401-413. The Order of Investigation and Hearing was issued to determine whether the Respondent has violated:

(1) section 41102(c) of the Shipping Act by failing to establish, observe, and enforce just and reasonable regulations and practices relating to or connected with receiving, handling, storing, or delivering property by (a) holding parties who have not consented to be bound by its bill of lading or sea waybill liable for detention and demurrage or per diem charges, and (b) misapplying its operating reefer rates to non-operating reefer (NOR) shipments;

(2) section 40501 of the Shipping Act by failing to: (a) publish in its tariff separate detention and demurrage rates for nonoperating reefers for public inspection; (b) publish its tariffs and state each charge under its control and any rules that in any way change, affect or determine any part of the total of its rates or charges; and (c) publish the nonoperating reefer rate for public inspection; and

(3) section 41104(a)(2)(A) of the Shipping Act by providing transportation in the liner trade that was not in accordance with the rates, charges, classifications, rules, and practices contained in its published tariff.

The full text of the Order of Investigation and Hearing can be found in the Commission's electronic Reading Room at https://www2.fmc.gov/readingroom/proceeding/23-08/.

Authority: 46 U.S.C. chs. 401-413.

William Cody,
Secretary.

[FR Doc. 2023-17574 Filed 8-15-23; 8:45 am]

BILLING CODE P